DEPARTMENT OF COMMERCE

Foreign-Trade Zones Board

[B-69-2021]

Proposed Foreign-Trade Zone—Smith County, Texas; Under Alternative Site Framework

An application has been submitted to the Foreign-Trade Zones (FTZ) Board by the Tyler Economic Development Council to establish a foreign-trade zone in Smith County, Texas, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on October 28, 2021. The applicant is authorized to make the proposal under Texas Business and Commerce Code, Title 15, Chapter 681, Foreign-Trade Zones.

The proposed zone would be the fourth zone for the Shreveport-Bossier City CBP port of entry. The existing zones are as follows: FTZ 145, Shreveport, Louisiana (Grantee: Caddo-Bossier Parishes Port Commission, Board Order 370, January 7, 1988); FTZ 234, Gregg County, Texas (Grantee: Gregg County, Texas, Board Order 1003, November 4, 1998); and, FTZ 258, Bowie County, Texas (Grantee: TexAmericas Center, Board Order 1287, October 9, 2003).

The applicant's proposed service area under the ASF would be a portion of Smith County, as described in the application. If approved, the applicant would be able to serve sites throughout the service area based on companies' needs for FTZ designation. The application indicates that the proposed service area is adjacent to the Shreveport-Bossier City Customs and Border Protection port of entry.

The application indicates a need for zone services within a portion of Smith County, Texas. Several firms have indicated an interest in using zone procedures for warehousing/distribution activities for a variety of products. Specific production approvals are not being sought at this time. Such requests would be made to the FTZ Board on a case-by-case basis.

In accordance with the FTZ Board's regulations, Camille Evans and Christopher Wedderburn of the FTZ Staff are designated examiners to evaluate and analyze the facts and information presented in the application and case record and to report findings and recommendations to the FTZ Board.

Public comment is invited from interested parties. Submissions shall be addressed to the FTZ Board's Executive Secretary and sent to: ftz@trade.gov. The closing period for their receipt is January 3, 2022. Rebuttal comments in response to material submitted during the foregoing period may be submitted during the subsequent 15-day period to January 18, 2022.

A copy of the application will be available for public inspection in the “Online FTZ Information Section” section of the FTZ Board's website, which is accessible via www.trade.gov/ftz.

For further information, contact Camille Evans and Christopher Wedderburn at Camille.Evans@trade.gov and Chris.Wedderburn@trade.gov.

Dated: October 29, 2021.
Andrew McGilvray,
Executive Secretary.

[FR Doc. 2021-24044 Filed 11-3-21; 8:45 am]

BILLING CODE 3510-DS-P